DEPARTMENT OF TRANSPORTATION

Federal Aviation Administration

Twenty-First Meeting: RTCA Special Committee (225) Rechargeable Lithium Battery and Battery Systems

AGENCY: Federal Aviation Administration (FAA), U.S. Department of Transportation (DOT).

ACTION: Notice of Twenty-First RTCA Special Committee 225 Meeting.

SUMMARY: The FAA is issuing this notice to advise the public of the Twenty-First RTCA Special Committee 225 meeting.

DATES: The meeting will be held December 8th-10th from 9:00 a.m.-5:00 p.m.

ADDRESSES: The meeting will be held at NBAA, 1200 G Street NW., Suite 1100, Washington, DC 20005, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iversen, Program Director, RTCA, Inc., jiversen@rtca.org, (202) 330-0662.

SUPPLEMENTARY INFORMATION: Pursuant to section 10(a)(2) of the Federal Advisory Committee Act (Pub. L. 92-463, 5 U.S.C., App.), notice is hereby given for a meeting of RTCA Special Committee 225. The agenda will include the following:

Tuesday, December 8, 2015

1. Introductions and administrative items (including DFO & RTCA Statement) (5 min)

2. Review agenda (1 min)

3. Review and approve summary from the last Plenary (5 min)

4. Review DO-311A recovery plan & establish date for next plenary (10 min)

5. Adjourn to working group

a. Tasks to accomplish

i. Allocate requirements/tests based on categories

ii. Continue reviewing reformatted document

iii. Define section 2.2 requirements for testing

6. Review Plenary action items (1 min)

Wednesday, December 9, 2015

1. Review agenda, other actions (1 min)

2. Adjourn to working group

3. Review Plenary action items (1 min)

Thursday, December 10, 2015

1. Review agenda, other actions (5 min)

2. Review DO-311A recovery plan (5 min)

3. Establish Agenda for next Plenary (5 min)

4. Adjourn to working group

5. Working Group Report (5 min)

6. Review Plenary action items (1 min)

7. Adjourn

Attendance is open to the interested public but limited to space availability. With the approval of the chairman, members of the public may present oral statements at the meeting. Plenary information will be provided upon request. Persons wishing to present statements or obtain information should contact the person listed in the FOR FURTHER INFORMATION CONTACT section. Members of the public may present a written statement to the committee at any time.

Issued in Washington, DC, on November 10, 2015.
Latasha Robinson,
Management & Program Analyst, Next Generation, Enterprise Support Services Division, Federal Aviation Administration.

[FR Doc. 2015-29386 Filed 11-17-15; 8:45 am]

BILLING CODE 4910-13-P